DEPARTMENT OF THE INTERIOR

Office of the Assistant Secretary Water and Science; Notice of Availability of the Revised Central Utah Water Conservancy District National Environmental Policy Act Handbook

AGENCY: Central Utah Project Completion Act Office, Interior.

ACTION: Notice.

SUMMARY: The Central Utah Project Completion Act Office and the Central Utah Water Conservancy District are announcing the availability of their revised National Environmental Policy Act (NEPA) Handbook. Revisions were made to this handbook in response to new requirements and practices contained in the Department of the Interior's 2008 NEPA Regulations and Council on Environmental Quality guidance issued in support of the Administration's efforts to modernize Federal agency implementation of NEPA. The revisions were made to improve the process for preparing efficient and timely environmental reviews under NEPA.

ADDRESSES: Copies of the NEPA Handbook are available for inspection at the following locations:

• Central Utah Water Conservancy District, 355 West University Parkway, Orem, Utah 84058-7303.

• Department of the Interior, Central Utah Project Completion Act Office, 302 East 1860 South, Provo, Utah 84606.

In addition, the document is available at www.cuwcd.com and www.cupcao.gov.

FOR FURTHER INFORMATION CONTACT: Additional information may be obtained by contacting Mr. W. Russ Findlay, Central Utah Project Completion Act Office, 302 East 1860 South, Provo, Utah 84606-7317; by email to wfindlay@usbr.gov; or by phone at 801-379-1084.

SUPPLEMENTARY INFORMATION: The passage of the Central Utah Project Completion Act in 1992 required the Central Water Conservancy District (District) to enter into an agreement with the Secretary of the Department of the Interior (Interior) allowing them to be considered a “Federal Agency” for the purposes of compliance with all Federal fish, wildlife, recreation, and environmental laws. Accordingly, the District and Interior entered into a Compliance Agreement on August 11, 1993. The Compliance Agreement required the development of a NEPA Handbook. The revised NEPA Handbook provides guidance in environmental law and NEPA processes and establishes District policy and procedures for complying with NEPA.

Reed R. Murray,
Program Director, Central Utah Project Completion Act Office, Department of the Interior.

[FR Doc. 2016-10294 Filed 5-2-16; 8:45 am]

BILLING CODE 4332-90-P